DEPARTMENT OF ENERGY

Federal Energy Regulatory Commission

[Project No. 2055-010]

Idaho Power Company; Notice of Extension of time

January 25, 2001.

By a Motion dated January 17, 2001, the Regional Solicitor, U.S. Department of the Interior (Interior) requested an extension of time for the filing of comments in response to the Commission's Notice of Ready for Environmental Analysis and Soliciting Comments, Recommendations, Terms and Conditions, and Prescriptions issued December 5, 2000. Interior stated that because of the scope of the project, personnel changes, staff work load and time constraints imposed on Interior's U.S. Fish and Wildlife Service, additional time is needed in order to prepare and file its comments. Interior has requested an extension of time until March 3, 2001.

Upon consideration, notice is hereby given that an extension of time for the filing of comments, recommendations, terms and conditions, and prescriptions is granted to Interior and all parties in this proceeding until and including March 3, 2001.

David P. Boergers,
Secretary.

[FR Doc. 01-2599 Filed 1-30-01; 8:45 am]

BILLING CODE 6717-01-M